DEPARTMENT OF THE INTERIOR

Geological Survey

[GX.22.DJ73.UAC10.00, OMB Control Number 1028-NEW]

Agency Information Collection Activities: Vulnerability to Water Insecurity, Hazards Planning, and Response

AGENCY: U.S. Geological Survey, Interior.

ACTION: Notice of information collection; request for comment.

SUMMARY: In accordance with the Paperwork Reduction Act (PRA) of 1995, the U.S. Geological Survey (USGS) is proposing a new information collection.

DATES: Interested persons are invited to submit comments on or before November 1, 2022.

ADDRESSES: Send your comments on this information collection request (ICR) by mail to U.S. Geological Survey, Information Collections Officer, 12201 Sunrise Valley Drive MS 159, Reston, VA 20192; or by email to gs-info_collections@usgs.gov. Please reference OMB Control Number 1028-NEW in the subject line of your comments.

FOR FURTHER INFORMATION CONTACT: To request additional information about this ICR, contact Jennifer Rapp by email at jrapp@usgs.gov or by telephone at 804-261-2635. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA of 1995, we are providing the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: The United States is facing growing challenges related to the availability and quality of water due to shifting demographics, aging water-delivery infrastructure, the impacts of climate change, and increasing hazards risk, such as floods and drought. Working with incomplete knowledge, managers must consider the needs of various demographic groups and economic sectors when making management decisions as well as when responding to emergencies. To improve delivery of effective science to support decision-making, the USGS must adapt to meet the evolving needs of stakeholders in the water-hazard space. We will collect information regarding the decision-making process, data, and data format needs to support daily, long-term, and emergency management decision-making. Information will also be sought on gaps in data delivery and coverage. A lack of decision-support data within water institutions can lead to poor decision-making and outcomes that produce conflict between water-use sectors, states, or communities and ultimately may led to a crisis. This information will support the delivery of appropriate data, in appropriate formats, at the right time for decision-making and emergency management. The information will guide USGS support of water-resource institutions, enhancing resilience in the face of the many water-resource challenges the nation currently faces.

Title of Collection: Vulnerability to Water Insecurity, Hazards Planning, and Response.

OMB Control Number: 1028-NEW.

Form Number: None.

Type of Review: New.

Respondents/Affected Public: Federal, State, Tribal Nation, and local water-resource managers, water-resource stakeholders, and water-hazard responders.

Total Estimated Number of Annual Respondents: 750.

Total Estimated Number of Annual Responses: 750.

Estimated Completion Time per Response: 60 minutes.

Total Estimated Number of Annual Burden Hours: 750.

Respondent's Obligation: Voluntary.

Frequency of Collection: Once per year.

Total Estimated Annual Nonhour Burden Cost: None.

An agency may not conduct or sponsor, nor is a person required to respond to, a collection of information unless it displays a currently valid OMB control number.

The authority for this action is the PRA of 1995 (44 U.S.C. 3501 et seq.).

Joseph Nielsen,
Director, Integrated Information Dissemination Division, USGS Water Resources Mission Area.

[FR Doc. 2022-19064 Filed 9-1-22; 8:45 am]

BILLING CODE 4338-11-P